DEPARTMENT OF DEFENSE

Department of the Army

Availability for Non-Exclusive, Exclusive, or Partially Exclusive Licensing of U.S. Patent Application Concerning Detection and Discrimination of Anomalies in Breast Tissue Images

AGENCY: Department of the Army, DoD.

ACTION: Notice.

SUMMARY: In accordance with 37 CFR 404.6 and 404.7, announcement is made of the availability for licensing of the invention set forth in U.S. Patent Application No. 11/340,375 entitled “Medical Image Processing Methodology for Detection and Discrimination of Objects in Tissue,” filed on January 26, 2006. The United States Government, as represented by the Secretary of the Army, has rights in this invention.

ADDRESSES: Office of Research and Technology Applications, SDMC-RDTC-TDL (Ms. Susan D. McRae), Bldg. 5220, Von Braun Complex, Redstone Arsenal, AL 35898.

FOR FURTHER INFORMATION CONTACT: Ms. Joan Gilsdorf, Patent Attorney, e-mail: joan.gilsdorf@smdc.army.mil; (256) 955-3213 or Ms. Susan D. McRae, Office of Research and Technology Applications, e-mail: susan.mcrae@smdc.army.mil; (256) 955-1501.

SUPPLEMENTARY INFORMATION: The invention pertains to the implementation of image processing and response surface methodology algorithms to process images (e.g., mammogram, magnetic resonance imaging (MRI), and ultrasound imagery) to provide improved detection of objects, such as anomalous masses in dense breast tissue, to better characterize these masses as cancerous or benign, and to identify the margins of cancerous tissue.

Brenda S. Bowen,
Army Federal Register Liaison Officer.

[FR Doc. 07-720 Filed 2-15-07; 8:45 am]

BILLING CODE 3710-08-M